ELECTION ASSISTANCE COMMISSION

Sunshine Act Notice; Meeting

AGENCY: United States Election Assistance Commission.

ACTION: Notice of Public Meeting and Hearing Agenda.

DATE AND TIME: Thursday, October 26, 2006, 10:00 a.m.-4:00 p.m.

PLACE: U.S. Election Assistance Commission (EAC), 1225 New York Ave., NW., Suite 1100, Washington, DC 20005. (Metro Stop: Metro Center)

AGENDA: The Commission will conduct a public meeting and hearing on EAC's post-election voting system testing and certification program. The Commission will receive presentations by representatives of the National Institute of Standards and Technology (NIST), representatives of testing laboratories, equipment manufacturers, election officials, community interest groups and Commission staff members. The Commission will also meet to consider other administrative matters.

EAC will provide a public comment period to receive comments regarding the voting system testing and certification program. Members of the public who wish to speak must contact and register with EAC by 5:00 p.m. on Tuesday, October 24, 2006. Speakers may contact EAC via e-mail at testimony@ec.gov, or via mail addressed to the U.S. Election Assistance Commission, 1225 New York Ave., NW., Suite 1100, Washington, DC 20005, or by fax at 202/566-3127. Comments will be strictly limited to 3 minutes per person or organization to ensure the fullest participation possible. All speakers will be contacted prior to the hearing. EAC also encourages members of the public to submit written testimony via e-mail, mail or fax. All public comments will be taken in writing via e-mail at testimony@eac.gov, or via mail addressed to the U.S. Election Assistance Commission, 1225 New York Ave., NW., Suite 1100, Washington, DC 20005, or by fax at 202/566-3127.

This meeting and hearing will be open to the public.

FOR FURTHER INFORMATION CONTACT: Bryan Whitener, Telephone: (202) 566-3100.

Thomas R. Wilkey,
Executive Director, U.S. Election Assistance Commission.

[FR Doc. 06-8645 Filed 10-6-06; 4:01 pm]

BILLING CODE 6820-KF-M